DEPARTMENT OF COMMERCE

National Oceanic and Atmospheric Administration

[I.D. No. 082301A]

Endangered and Threatened Wildlife and Plants; Recovery Plan Preparation for the Gulf of Maine Distinct Population Segment of Atlantic Salmon

AGENCY: National Marine Fisheries Service (NMFS), National Oceanic and Atmospheric Administration (NOAA), Commerce.

ACTION: Notice; request for information.

SUMMARY: The National Marine Fisheries Service (NMFS) and the U.S. Fish and Wildlife Service (FWS)(the Services) are developing a recovery plan for the Gulf of Maine Distinct Population Segment of Atlantic Salmon. The Services are required by the Endangered Species Act (ESA) to develop plans for the conservation and survival of federally listed species, i.e., recovery plans.

FOR FURTHER INFORMATION CONTACT: Mark Minton, NMFS, telephone 978-281-9355; Anne Hecht, FWS 978-443-4325.

SUPPLEMENTARY INFORMATION: The ESA specifies that recovery plans must include: (1) a description of management actions necessary to achieve the plan’s goals for the conservation and survival of the species; (2) objective, measurable criteria which, when met, would result in the species being removed from the list; and (3) estimates of the time and costs required to achieve the plan’s goal and achieve intermediate steps toward that goal.

The Services have developed an interim, draft schedule for the completion of the recovery plan. The interim schedule for plan development includes completion of technical draft recovery plan (December 2001); completion and distribution of draft recovery plan (May 2002); completion of final recovery plan (May 2003).

The NMFS hereby requests relevant information on the species and/or comments on the impacts to the species that should be addressed during plan development. Comments must be received within 60 days of the publication of this notice. Comments should be sent to:

National Marine Fisheries Service, One Blackburn Drive, Gloucester, MA 01930, Attn: Atlantic Salmon Recovery Plan Coordinator.

Dated: September 5, 2001.
Ann D. Terbush,
Acting Director, Office of Protected Resources, National Marine Fisheries Service.

[FR Doc. 01-22930 Filed 9-11-01; 8:45 am]

BILLING CODE 3510-22-S